DEPARTMENT OF LABOR

Employment and Training Administration

[TA-W-62,626]

Visteon Systems LLC, Bedford Plant, a Subsidiary of Visteon Corporation, Including On-Site Leased Workers From Securitas and Ciber, Inc., Including Leased Workers From Bedford Logistics, Inc., Bedford, IN; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on February 27, 2008, applicable to workers of Visteon Systems LLC, Bedford Plant, a subsidiary of Visteon Corporation, including on-site leased workers from Securitas, Bedford, Indiana. The notice was published in the Federal Register on March 11, 2008 (73 FR 13017). The certification was amended on June 20, 2008 to include leased workers from Bedford Logistics, Inc. The notice was published in the Federal Register on June 27, 2008 (73 FR 36574).

At the request of the State agency, the Department reviewed the certification for workers of the subject firm. The workers are engaged in the production of automotive components (i.e., fuel delivery modules, wiper reservoirs and canister vent valves).

New information shows that leased workers from Ciber, Inc. were employed on-site at the Bedford, Indiana facility of Visteon Systems LLC, Bedford Plant.

Based on these findings, the Department is amending this certification to include leased workers from Ciber, Inc. working on-site at the Bedford, Indiana location of the subject firm.

The intent of the Department's certification is to include all workers employed at Visteon Systems LLC, Bedford Plant, a subsidiary of Visteon Corporation who were adversely affected by increased imports of Automotive components (i.e., fuel delivery modules, wiper reservoirs, and canister vent valves).

The amended notice applicable to TA-W-62,626 is hereby issued as follows:

All workers of Visteon Systems LLC, Bedford Plant, a subsidiary of Visteon Corporation, including on-site leased workers from Securitas and Ciber, Inc. and including leased workers from Bedford Logistics in support of Visteon Systems LLC, Bedford Plant, a subsidiary of Visteon Corporation, Bedford, Indiana, who became totally or partially separated from employment on or after January 21, 2008, through February 27, 2010, are eligible to apply for adjustment assistance under Section 223 of the Trade Act of 1974, and are also eligible to apply for alternative trade adjustment assistance under Section 246 of the Trade Act of 1974.

Signed at Washington, DC, this 17th day of July 2008.
Elliott S. Kushner,
Certifying Officer, Division of Trade Adjustment Assistance.

[FR Doc. E8-17132 Filed 7-25-08; 8:45 am]

BILLING CODE 4510-FN-P